DEPARTMENT OF COMMERCE

National Oceanic and Atmospheric Administration

[I.D. 042401E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Red Crab Advisory Panel and Scientific and Statistical Committee, (SSC) to consider actions affecting New England fisheries in the exclusive economic zone (EEZ). Recommendations from these groups will be brought to the full Council for formal consideration and action, if appropriate.

DATES: The meetings will be held between May 15, 2001, and May 18, 2001. See SUPPLEMENTARY INFORMATION for specific dates and times.

ADDRESSES: The meetings will be held in Newburyport, MA. See SUPPLEMENTARY INFORMATION for specific locations.

FOR FURTHER INFORMATION CONTACT: Paul J. Howard, Executive Director, New England Fishery Management Council; (978) 465-0492.

SUPPLEMENTARY INFORMATION:

Meeting Dates and Agendas

Tuesday, May 15, 2001, 10 a.m.—Red Crab Advisory Panel Meeting.

Location: Rossi’s Restaurant, 50 Water Street, Mill #2, Newburyport, MA 01950; telephone: (978) 499-0240.

The Red Crab Advisors will elect a chair and review Advisory Panel operating procedures. The Advisors will review proposed management measure alternatives and provide input. The Advisors will provide information on the social, economic and operational aspects of the red crab fishery.

Friday, May 18, 2001, 10 a.m.—Scientific and Statistical Committee Meeting.

Location: New England Management Council Office, 50 Water Street, Mill #2, Newburyport, MA 01950; telephone: (978) 465-0492.

The SSC committee will develop plans to provide the Council advice on the priorities identified by the Council. These include:

(1) Review of fishing mortality and biomass reference points for selected groundfish species and skates.

(2) Review of changes in the scallop reference points that might result from a rotational area management strategy and the scientific basis of proposed scallop rotational area management measures as developed by the Council and Scallop PDT.

(3) Evaluation of the available information on the stock structure of monkfish and its implications for management. Review of the monkfish assessment update (to be done by the Monkfish Monitoring Committee), and review of fishing mortality and biomass reference points.

(4) Review of the update of whiting status that will be completed by the Whiting Plan Development Team; and

(5) Other issues that it might advise the Council on such as the potential value of marine protected areas (MPAs) and closed areas (quantify benefits from existing closed areas) and multispecies management issues.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 25, 2001.
Richard W. Surdi,
Acting Director, Office of Sustainable Fisheries, National Marine Fisheries Service.

[FR Doc. 01-10785 Filed 4-30-01; 8:45 am]

BILLING CODE 3510-22-S